FEDERAL COMMUNICATIONS COMMISSION

[FR ID 127522]

Radio Broadcasting Services; AM or FM Proposals To Change the Community of License

AGENCY: Federal Communications Commission.

ACTION: Notice.

DATES: The agency must receive comments on or before April 24, 2023.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: MICHAEL RADIO COMPANY, LLC, KLLM(FM), FAC. ID NO. 762455, FROM: WHEATLAND, WY, TO: WEST LARAMIE, WY, FCC FILE NO. 0000205045; GRACE COMMUNITY CHURCH OF AMARILLO, KRGK(FM), FAC. ID NO. 766480, FROM: BIG SPRING, TX, TO: SWEETWATER, TX, FCC FILE NO. 0000207569; SOLID ROCK FOUNDATION, KVWD(FM), FAC. ID NO. 766506, FROM: SWEETWATER, OK, TO: MERRITT, OK, FCC FILE NO. 0000207441; CENTRAL FLORIDA EDUCATIONAL FOUNDATION, INC., WCYZ(FM), FAC. ID NO. 191546, FROM: SILVER SPRINGS SHORE, FL, TO: OCALA, FL, FCC FILE NO. 0000204932; CENTRAL FLORIDA EDUCATIONAL FOUNDATION, INC., WHGV(FM), FAC. ID NO. 76433, FROM: LA CROSSE, FL, TO: GAINESVILLE, FL, FCC FILE NO. 0000206026; ALLIANCE RADIO, LLC, WPNA-FM, FAC. ID NO. 74177, FROM: HIGHLAND PARK, IL, TO: NILES, IL, FCC FILE NO. 0000210663; and BRADLEY GOEHL, KKBW, FAC. ID NO. 762409, FROM: MULLIN, TX, TO: LAKE BROWNWOOD, TX, FCC FILE NO. 0000210602. The full text of these applications is available electronically via the Licensing and Management System (LMS), https://apps2int.fcc.gov/dataentry/public/tv/publicAppSearch.html.

Federal Communications Commission.
Nazifa Sawez,
Assistant Chief, Audio Division, Media Bureau.

[FR Doc. 2023-03690 Filed 2-22-23; 8:45 am]

BILLING CODE 6712-01-P